DEPARTMENT OF LABOR

Employment and Training Administration

[TA-W-63,880]

Amended Certification Regarding Eligibility To Apply for Worker Adjustment Assistance and Alternative Trade Adjustment Assistance

Cequent Electrical Products, Inc., Formerly Known as Tekonsha Towing, Tekonsha, Michigan; Including Employees in Support of Cequent Electrical Products, Inc., Formerly Known as Tekonsha Towing, Tekonsha, Michigan, Working in the Following Locations:

TA-W-63,880A, Washougal, Washington.

TA-W-63,880B, West Linn, Oregon.

TA-W-63,880C, Temecula, California.

TA-W-63,880D, Urbandale, Iowa.

TA-W-63,880E, Weston, Wisconsin.

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on November 26, 2008, applicable to workers of Cequent Electrical Products, Inc., Tekonsha, Michigan. The notice was published in the Federal Register on December 10, 2008 (73 FR 75137). The certification was amended on December 24, 2008 to include employees in support of the subject firm working in Washougal, Washington, West Linn, Oregon, Temecula, California, Urbandale, Iowa and Weston, Wisconsin. The notice was published in the Federal Register on January 2, 2009 (74 FR 465-466).

At the request of the State agency, the Department reviewed the certification for workers of the subject firm. The workers are engaged in the production of brake controls, breakaway kits and lights for the automotive and trailer industries.

New information received from a company official shows that workers separated from employment at the subject firm had their wages reported under a separate unemployment insurance (UI) tax account for Tekonsha Towing.

Accordingly, the Department is amending this certification to properly reflect this matter.

The intent of the Department's certification is to include all workers of the subject firm who were adversely affected by increased imports of brake controls, breakaway knits and lights.

The amended notice applicable to TA-W-63,880, TA-W-63,880A, TA-W-63,880B, TA-W-63,880C, TA-W-63,880D and TA-W-63,880E are hereby issued as follows:

All workers of Cequent Electrical Products, Inc., formerly known as Tekonsha Towing, Tekonsha, Michigan, including employees in support of Cequent Electrical Products, Inc., formerly known as Tekonsha Towing, Tekonsha, Michigan working out of Washougal, Washington (TA-W-63,880A), West Linn, Oregon (TA-W-63,880B), Temecula, California (TA-W-63,880C), Urbandale, Iowa (TA-W-63,880D), and Weston, Wisconsin (TA-W-63,880E), who became totally or partially separated from employment on or after August 6, 2007, through November 26, 2010, are eligible to apply for adjustment assistance under Section 223 of the Trade Act of 1974, and are also eligible to apply for alternative trade adjustment assistance under Section 246 of the Trade Act of 1974.

Signed at Washington, DC this 18th day of February 2009.
Elliott S. Kushner,
Certifying Officer, Division of Trade Adjustment Assistance.

[FR Doc. E9-4395 Filed 3-2-09; 8:45 am]

BILLING CODE 4510-FN-P